DEPARTMENT OF AGRICULTURE

Forest Service

Bend-Fort Rock Ranger District; Deschutes National Forest; Deschutes County Oregon; Twin Vegetation Management and Restoration Project

AGENCY: Forest Service, USDA.

ACTION: Notice of intent to prepare an environmental impact statement.

SUMMARY: The USDA Forest Service will prepare an environmental impact statement (EIS) on a proposed action to promote more resilient forest conditions closer to their historic range of variability, which would contribute to desirable recreation experiences, conserve and enhance wildlife habitat, and reduce impacts to streams and aquatic habitat within the 40,000 acres Twin project area. The project area is located south and southwest of Bend, Oregon and includes the areas surrounding Wickiup and Crane Prairie Reservoirs, North and South Twin Lakes, Browns Mountain and Round Mountain Late Successional Reserves. An analysis has been initiated that takes a landscape approach to managing the vegetation to meet objectives for resilient forests.

DATES: Comments concerning the scope of the analysis must be received by July 9, 2018. The draft EIS is expected September 2019 and the final EIS is expected August 2020.

ADDRESSES: Send written comments to Kevin Larkin, District Ranger, Bend-Fort Rock Ranger District, 63095 Deschutes Market Road, Bend, OR 97701. Comments may also be sent via email to comments-pacificnorthwest-deschutes-bend-ftrock@fs.fed.us, or via facsimile to 541-383-4700, or submitted in person during regular business hours, Monday-Friday, 8:00 a.m.-4:30 p.m. at the address listed above.

FOR FURTHER INFORMATION CONTACT: Alicia Underhill, Environmental Coordinator, Bend-Fort Rock Ranger District, 63095 Deschutes Market Road, Bend, OR 97701, phone 541-383-4012, between the hours of 8:00 a.m. and 4:30 p.m., Pacific Time, Monday through Friday or by email at aunderhill@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

There is a need to manage stand structure and composition to tolerate primary disturbance agents (i.e. fire, insect and disease) on a landscape scale and to improve fire management opportunities in anticipation of future wildfire events. There is a need to address impacts to shorelines, streambanks, and riparian vegetation due to recreational use. There is a need to restore wetland and stream function. There is a need to manage recreation impacts and a need to address trees showing signs of future failure within developed recreation sites. There is a need to establish an appropriate buffer between developed and dispersed campsites to minimize conflicts. There is a need to manage system and non-system roads to reduce negative impacts to natural resources.

In summary, the Twin project intends to create more resilient forest conditions closer to their historic range of variability, which would contribute to desirable recreation experiences, conserve and enhance wildlife habitat, and reduce impacts to streams and aquatic habitat from high severity fires.

Proposed Action

The Bend-Fort Rock Ranger District proposes the following actions to meet the purpose and need of the project area. Silviculture treatments (e.g. thinning) will focus on restoration treatments in ponderosa and dry mixed conifer plant association groups and stand healthy and age class diversity in lodgepole pine plant association groups. Commercial treatments on 4,894 acres will focus on reducing stocking levels and re-establishing stand structure and species composition to reflect historic stand conditions found in fire adapted ecosystems. Commercial treatments on 2,855 acres focus on improving overall strand health and diversity of age classes across the landscape which would decrease the susceptibility of large scale mountain pine beetle outbreaks. Treatments proposed within the Browns Mountain Late Successional Reserve (LSR) are designed to accelerate the development of large trees and reduce stand densities which would reduce the risk of a stand to fire, insects and disease. No commercial treatments are proposed in Northern spotted owl (NSO) high quality habitat nor within activity centers or within high value habitat within LSR. Ladder fuel reduction treatments proposed in high value NSO habitat (approximately 920 acres) would affect the lowest canopy layer and stands would remain overstocked and above the upper management zone density.

To meet the need to improve fire management opportunities and provide for public and firefighter safety, this project proposes to treat approximately 16,800 acres of treatment to meet hazardous fuels reduction objectives.

The Twin projects also proposes to: (a) Rehab dispersed sites that are causing resource damage; (b) enhance spawning gravel, address boat ramp erosion and improve accessible trails; (c) establish a buffer between developed and dispersed campsites; (d) remove trees showing signs of future failure within developed sites; and (e) close and decommissioning system roads and decommission user-created roads.

Responsible Official

The responsible official will be Kevin Larkin, District Ranger, Bend-Fort Rock Ranger District.

Nature of Decision To Be Made

The responsible official will consider how the proposed action meets the project's purpose and need, how public comments have been considered, and what the short and long term effects and benefits are to other resource areas.

Scoping Process

This notice of intent initiates the scoping process, which guides the development of the EIS. Public comments regading this proposal are requested in order to assist in identifying issues and opportunities associated with the proposal, how to best manage resources, and to focus the analysis. Those wishing to object must meet the requirements at 36 CFR 218.

It is important that reviewers provide their comments at such times and in such manner that they are useful to the agency's preparation of the EIS. Therefore, comments should be provided prior to the close of the comment period and should clearly articulate the reviewer's concerns and contentions.

Comments received in response to this solicitation, including names and addresses of those who comment, will be part of the public record for this proposed action. Comments submitted anonymously will be accepted and considered.

Dated: May 9, 2018.
Chris French,
Associate Deputy Chief, National Forest System.

[FR Doc. 2018-12313 Filed 6-7-18; 8:45 am]

BILLING CODE 3411-15-P